SMALL BUSINESS ADMINISTRATION

[Declaration of Disaster #3502]

State of Texas

Hidalgo County and the contiguous counties of Brooks, Cameron, Kenedy, Starr and Willacy in the State of Texas constitute a disaster area due to a tornado that occurred on April 29, 2003. Applications for loans for physical damage as a result of this disaster may be filed until the close of business on July 14, 2003, and for economic injury until the close of business on February 16, 2004, at the address listed below or other locally announced locations: U.S. Small Business Administration, Disaster Area 3 Office, 4400 Amon Carter Boulevard, Suite 102, Forth Worth, TX 76155.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The number assigned to this disaster for physical damage is 350212 and for economic injury the number is 9V3300.

(Catalog of Federal Domestic Assistance Program Nos. 59002 and 59008)
Dated: May 14, 2003.
Hector V. Barreto,
Administrator.

[FR Doc. 03-12700 Filed 5-20-03; 8:45 am]

BILLING CODE 8025-01-P